DEPARTMENT OF DEFENSE

Department of the Army

Real Property Master Plan Programmatic Environmental Impact Statement, at Yuma Proving Ground, Arizona

AGENCY: Department of the Army, DoD.

ACTION: Notice of Intent.

SUMMARY: The Department of the Army intends to prepare a Programmatic Environmental Impact Statement (PEIS) to analyze the environmental impacts resulting from adoption and implementation of a Real Property Master Plan (RPMP), including test areas and training activities at Yuma Proving Ground.

ADDRESSES: For questions concerning the RPMP PEIS, please contact Mr. Sergio Obregon, U.S. Army Garrison Yuma Proving Ground, National Environmental Policy Act Coordinator, IMWE-YMA-PWE, 301 C Street, Yuma, AZ 85365-9498. Written comments may be mailed to that address or e-mailed to ypgnepa@conus.army.mil.

FOR FURTHER INFORMATION CONTACT: Mr. Chuck Wullenjohn, Yuma Proving Ground Public Affairs Office, at (928) 328-6189 Monday through Thursday from 6:30 a.m. to 5 p.m., Mountain Standard Time.

SUPPLEMENTARY INFORMATION: Yuma Proving Ground consists of approximately 840,000 acres of DoD-managed land in the Sonoran Desert in southwestern Arizona and occupies portions of Yuma and La Paz counties. The mission at Yuma Proving Ground is ensuring the readiness of U. S. forces and materiel to perform in hot arid conditions around the world. This requires rigorous testing of ground and aerial vehicles, weapons, munitions, sensors, and guidance systems and realistic training. The U.S. has been engaged in hostile conflicts in environments similar to those found at Yuma Proving Ground, resulting in a need for increased testing of existing and developing military equipment, vehicles, and munitions under these environmental conditions. To meet these needs, the U.S. Army intends to prepare a RPMP PEIS at Yuma Proving Ground to analyze potential impacts from new construction, changes in testing and training, and activities conducted under private industry partnerships. Renewable energy initiatives will also be discussed in the PEIS, but project-specific NEPA analysis will be required prior to implementing specific renewable energy initiatives.

Alternatives will consist of alternative siting locations for certain activities within Yuma Proving Ground and different magnitudes of implementation with regard to spatial extent of potential impacts and frequency and duration of specific events. The EIS will also analyze the No Action Alternative, under which no new construction would occur and there would be no changes in testing and training activities conducted at Yuma Proving Ground.

No changes are proposed to activities conducted at off-post areas in Arizona and California that are used for specific testing activities under conditions not found at Yuma Proving Ground. Therefore, these areas would not be considered in the development of alternatives for the RPMP PEIS.

All activities under consideration would be conducted within the boundaries of the installation. Resource areas that may be impacted include air quality, airspace, traffic, noise, water resources, biological resources, cultural resources, socioeconomics, utilities, land use, and solid and hazardous materials/waste. Impacts to these resources may occur as a result of converting existing land use to support military testing and training or from increasing the scope or magnitude of testing and training activities. The analysis will also consider the potential for cumulative environmental effects.

The public will be invited to participate in the scoping process to provide input on the proposed action and alternatives, which will be evaluated in the PEIS. After publication of the Notice of Intent to prepare the PEIS, the Army will schedule at least two public meetings to provide information about the proposed action and alternatives and to solicit input and feedback from the public on issues to be addressed in the PEIS. Meetings will be announced in local media. The public will also be invited to review and comment on the Draft PEIS when it is released. Comments from the public will be considered before any decision is made regarding implementing the proposed action.

Brenda S. Bowen,
Army Federal Register Liaison Officer.

[FR Doc. 2011-12914 Filed 5-24-11; 8:45 am]

BILLING CODE 3710-08-P